DEPARTMENT OF HOMELAND SECURITY

8 CFR Parts 251 and 258

U.S. Customs and Border Protection

19 CFR Part 4

[Docket No. USCBP-2021-0046; CBP Dec. No. 2X-XX]

RIN 1651-AB18

Automation of CBP Form I-418 for Vessels

AGENCY: U.S. Customs and Border Protection, DHS.

ACTION: Final rule.

SUMMARY: This rule adopts as final, without change, interim amendments to title 8 and title 19 of the Code of Federal Regulations published in the Federal Register on December 28, 2021, that require commercial vessel operators to electronically submit the data elements of Form I-418 to U.S. Customs and Border Protection (CBP) in lieu of submitting a paper form. This electronic submission streamlines vessel arrival and departure processes by eliminating redundant data submissions, simplifying vessel inspections, and automating recordkeeping.

DATES: This rule is effective November 17, 2025.

FOR FURTHER INFORMATION CONTACT: For title 8 of the Code of Federal Regulations inquiries, contact Stephen Dearborn, Enforcement Programs Division, Admissibility and Passenger Programs, Office of Field Operations, Stephen.M.Dearborn@cbp.dhs.gov or (443) 765-9751; for title 19 of the Code of Federal Regulations inquiries, contact Brian Sale, Manifest and Security Division, Cargo and Conveyance Security, Office of Field Operations, Brian.A.Sale@cbp.dhs.gov or (202) 325-3338.

SUPPLEMENTARY INFORMATION:

I. Background

The Department of Homeland Security (DHS), including U.S. Customs and Border Protection (CBP) and U.S. Coast Guard (USCG), regulations require commercial vessels and their operators ¹ to meet several data submission requirements when arriving in the United States from a foreign place or outlying possession of the United States and when departing the United States for a foreign place or outlying possession of the United States. Both CBP and the USCG collect information in these contexts, and many of the data elements that the two agencies collect overlap.² While some of this data must be submitted electronically, CBP previously required certain data to be submitted on paper, such as the Form I-418, Passenger List—Crew List (Form I-418). DHS and CBP amended the applicable regulations in an interim final rule (IFR) published on December 28, 2021 (86 FR 73618). The interim regulations require commercial vessel operators to submit the data elements of Form I-418 electronically, instead of in a paper format, in an effort to streamline the vessel arrival and departure processes, simplify vessel inspections, and automate recordkeeping for Form I-418.

¹ For the purposes of this document, “operators” include masters or commanding officers, or authorized agents, owners, or consignees.

² The USCG requires commercial vessel operators to submit either a Notice of Arrival (NOA) or Notice of Departure (NOD) to the National Vessel Movement Center (NVMC) through its electronic Notice of Arrival/Departure (eNOA/D) system or via email in advance of U.S. arrival or departure. See 33 CFR 160.201-160.216. In addition to other data elements, each NOA/NOD must include information on the crew and passengers on board the vessel. See 33 CFR 160.206(a). Upon satisfactory submission, USCG processes the information via the eNOA/D web portal and then the system automatically transmits it to CBP as an Advance Passenger Information System (APIS) manifest for arrivals. An APIS manifest is a CBP pre-arrival requirement. See 8 CFR 231.1(a) and 19 CFR 4.7b.

II. Adoption of the Interim Final Rule

Although the interim regulations were promulgated as a procedural rule, and thus exempt from prior notice and comment requirements, CBP provided the public with the opportunity to comment on the rule and stated that CBP would consider the comments before adopting the interim regulations as a final rule. 86 FR 73624. The prescribed comment period closed on February 28, 2022, sixty days after the IFR published in the Federal Register. No comments were received in response to the solicitation of public comments.

Accordingly, CBP has decided to adopt the IFR published at 86 FR 73618 on December 28, 2021, without change.

III. Statutory and Regulatory Reviews

A. Executive Orders 12866, 13563, and 14192

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, reducing costs, harmonizing rules, and promoting flexibility. Executive Order 14192 (Unleashing Prosperity Through Deregulation) directs agencies to significantly reduce the private expenditures required to comply with Federal regulations and provides that “any new incremental costs associated with new regulations shall, to the extent permitted by law, be offset by the elimination of existing costs associated with at least 10 prior regulations.”

The Office of Management and Budget (OMB) has not designated this rule a “significant regulatory action,” under section 3(f) of Executive Order 12866. Accordingly, OMB has not reviewed it.

This final rule is considered a deregulatory action under Executive Order 14192. We estimate that this rule generates $18.4 million in net annualized cost savings at a 7% discount rate, discounted relative to year 2024, over a perpetual time horizon.

1. Purpose of Rule

Current statutes and regulations require commercial vessels and their operators ³ to meet several data submission requirements for arrival at and departure from a U.S. port of entry (POE). The U.S. Coast Guard (USCG) requires commercial vessel operators to submit a Notice of Arrival (NOA) to the agency's National Vessel Movement Center (NVMC) ⁴ through its electronic Notice of Arrival/Departure (eNOA/D) system or via email in advance of U.S. arrival.⁵ Each NOA must include arriving vessel, voyage, cargo, crew, longshore work, passenger, operational equipment condition, international safety management status, and cargo declaration information.⁶ Upon satisfactory submission, USCG processes the information via the eNOA/D web portal and then the system automatically transmits it to CBP as an Advance Passenger Information System (APIS) manifest.⁷ An APIS manifest is a CBP pre-arrival data submission requirement.⁸ CBP uses this electronic manifest to assess arrivals for security risks and to prepare for inspections.

³ For the purposes of this document, commercial vessels include cargo vessels, cruise ships, and other vessels used for commercial purposes. For the purposes of this analysis, “operators” include masters or commanding officers, or authorized agents, owners, or consignees.

⁴ USCG established the NVMC in 2001 to operate as a single clearinghouse for the submission and processing of notice of arrival and departure information for vessels entering and departing U.S. ports and facilities.

⁵ See 33 CFR 160.201-160.216. When a vessel operator is in an area without internet access or experiences technical difficulties, and he or she has no shore-side support available, the vessel operator may fax or phone the submission to the NVMC.

⁶ See 33 CFR 160.206(a).

⁷ See 70 FR 17820 (Apr. 7, 2005).

⁸ See 8 CFR 231.1(a) and 19 CFR 4.7b.

Prior to the implementation of the interim final rule (IFR), CBP generally required commercial vessel operators to submit paper copies of their manifest using Form I-418 at their time of arrival at a U.S. POE in addition to providing manifest data electronically prior to arrival.⁹ CBP mainly used the paper Form I-418 for crew and passenger admissibility inspections and processing. Cruise ship operators arriving at some POEs could submit just the two signature pages of their paper Form I-418 ¹⁰ and a compact disk (CD) of their passenger and crew manifest in lieu of submitting numerous pages of manifest data by paper to CBP.¹¹ If a manifest has changed during coastwise movement, commercial vessel operators must update their APIS manifest electronically through the eNOA/D system. A CBP officer at the coastwise port would typically update the vessel's original paper Form I-418 with any changes. To comply with some customs regulations, commercial vessel operators could also submit Form I-418 with CBP Form 5129: Crew Member's Declaration in lieu of submitting a Crew's Effects Declaration on CBP Form 1304 per 19 CFR 4.7a. However, CBP generally collects Form 1304 instead to meet the requirements of 19 CFR 4.7.¹²

⁹ 86 FR 73618 (Dec. 28, 2021). Prior to the February 28, 2022 effective date of the IFR, 8 CFR 251.1 and 8 CFR 251.5 specified that “the master or commanding officer, or authorized agent, owner, or consignee, of a commercial vessel or commercial aircraft arriving in or departing from the United States must submit arrival and departure manifests in a paper format in accordance with §§ 251.1, 251.3, and 251.4.”

¹⁰ These two signature pages included the Form I-418 pages containing the CBP “Receipt for Crew List” and the CBP “Certification of Copy of Crew List of United States Flag Vessel.”

¹¹ Cruise ships often have thousands of passengers and crewmembers, which cruise ship operators must account for on the Form I-418. To avoid submitting numerous pages listing these passengers and crewmembers, with CBP approval, cruise ship operators at some POEs submitted a CD of their passenger and crew manifest to CBP along with the two paper signature pages constituting the remainder of the Form I-418 as well as any applicable Form I-418 supporting documentation. Other cruise ship operators submitted the manifest CD as well as the full paper manifest, despite being granted a waiver from doing so. Information provided by CBP Office of Field Operations subject matter experts on October 7, 2020.

¹² Information provided by CBP Office of Field Operations subject matter experts on October 23, 2018.

Upon departure from the United States, USCG requires commercial vessel operators to submit updated manifest information via a Notice of Departure (NOD) to the NVMC through eNOA/D or another electronic format.¹³ Also at the time of departure, CBP requires these commercial vessel operators to update their APIS manifest electronically through the eNOA/D system and update their original paper Form I-418 submission to include a list of departing crew, crew changes, and trip departure details.¹⁴ In general, commercial vessel operators would then submit the completed Form I-418 or signature pages to CBP upon departure from the United States.¹⁵ A CBP officer at the port of departure typically verifies any changes to the Form I-418 information and sends this departure form, typically via fax or mail, to the first port of arrival for final data reconciliation and recordkeeping purposes.

¹³ See 33 CFR 160.201-160.216.

¹⁴ See 8 CFR 251.3.

¹⁵ Upon departure from the United States, cruise ship operators generally must submit at least the completed two signature pages of their paper Form I-418 as well as an updated manifest, which can be provided on a CD.

Despite similarities in the vessel arrival and departure data submitted according to Form I-418, APIS, and eNOA/D requirements, regulations prior to the promulgation of the IFR did not allow data to be transmitted electronically, such as through APIS, eNOA/D, or email, to satisfy Form I-418's paper passenger and crew list submission requirement.¹⁶ In fact, failure to submit Form I-418 in paper format could have resulted in fines and penalties. To reduce redundant data submissions and to ease burdens on commercial vessel operators and the agency itself, CBP launched the I-418 Automation test program in 2011. This test allowed for the automated, electronic submission of the data elements on Form I-418 from test participants using manifest data previously submitted electronically to the NVMC through eNOA/D, APIS, or other means. Based on the successful operation of the test, CBP established the automated, electronic Form I-418 data submission process through interim regulation.

¹⁶ See 8 CFR 251.5.

Through the IFR, DHS and CBP amended the regulations under 8 CFR part 251, 8 CFR part 258, and 19 CFR part 4 to require the electronic submission of the data elements required from commercial vessel operators on Form I-418 in lieu of paper form submissions. CBP generally no longer requires the paper Form I-418. The interim regulations, which CBP finalizes with this final rule, require commercial vessel operators to electronically submit the data elements required on Form I-418 via an electronic data interchange system (EDI) approved by CBP. CBP continues to use the eNOA/D system as the approved EDI. Under this process, the appropriate CBP systems compile eNOA/D, APIS, and any other electronic manifest data submitted by commercial vessel operators prior to arrival and at departure into a passenger and crew list format reflective of an electronic Form I-418.¹⁷ The information already collected through eNOA/D satisfies the required data elements for populating the electronic version of the Form I-418 for CBP's purposes. The act of electronically submitting the data elements required on Form I-418 also constitutes the (vessel) Master's certification that the manifest information is accurate and that the master or operator has taken or will take certain required actions,¹⁸ and eliminates the need to generally collect certification signatures on Form I-418 by vessel masters (or operators) and CBP officers.¹⁹ CBP also retains its authority to require paper Form I-418 submissions in the event of certain technical difficulties, such as system outages and disruptions, that make it impossible to submit or receive manifest data electronically, and according to CBP discretion.²⁰ This rulemaking has streamlined vessel arrival and departure processes by eliminating redundant data submissions, simplifying vessel inspections, and automating recordkeeping.

¹⁷ The embark date required on Form I-418 is transmitted to CBP via eNOA/D. The disembark date/date separated (i.e., the date when a crewmember permanently departs the vessel) is calculated by the appropriate CBP systems. This rule does not change this practice.

¹⁸ This includes certifying that CBP baggage declaration requirements have been made known to incoming passengers; that any required CBP baggage declarations have been or will simultaneously be filed as required by law and regulation with the proper CBP officer; that the responsibilities of the commercial vessel operator have been or will be done as required by law or regulation before the proper CBP officer; and that there are no steerage passengers on board the vessel.

¹⁹ CBP officer signatures are generally dictated on the form as a unique receipt number tied to the officer. For the purposes of this analysis, CBP refers to these receipt numbers as signatures.

²⁰ The IFR describes particular exceptions to the electronic submission requirement. 86 FR 73623. In particular, CBP retains its authority to require paper submissions in the event the master or agent of the vessel is unable to electronically submit the data elements required on Form I-418 via an EDI approved by CBP due to technical issues, such as when the onboard computer system is malfunctioning or there is no internet access, and there is no shore-side support available; CBP is experiencing technical difficulties affecting its receipt or processing of electronically submitted information; or where CBP, in its discretion, determines that a paper Form I-418 is acceptable under the circumstances presented by the master or agent of a vessel.

2. Population Affected by I-418 Automation Test Program and Rulemaking

The I-418 Automation rulemaking affects commercial vessel operators and CBP, but at different magnitudes according to the arriving vessel type and I-418 Automation test program participation. To determine the extent of the population affected by this rulemaking, CBP relies on historical commercial vessel arrival/departure and test participation data.

From the I-418 Automation test program's launch in FY 2011 to FY 2021, a total of about 924,000 commercial vessels entered U.S. waters from a foreign port or place, including nearly 837,000 cargo and non-cargo vessels (e.g., tugboats) and 87,000 cruise ships. Of the total arrivals, approximately 111,000 corresponded to cargo and non-cargo vessels participating in the I-418 Automation test program and an estimated 49,000 corresponded to cruise ships participating in the test program.²¹ Only a portion of these participants took full advantage of the test program's attributes. According to field interviews, the majority of commercial vessel operators participating in the I-418 Automation test program continued to provide a paper Form I-418 upon arrival/departure despite having submitted the data elements required on Form I-418 electronically to ensure full compliance with DHS and CBP regulations.²² For the purposes of this analysis, CBP refers to these commercial vessel operators as those who partially participated in the I-418 Automation test program. Without exact figures on test participant arrivals/departures corresponding to commercial vessel operators who only partially participated in the program, CBP estimates that 50 percent of the test participant arrivals/departures and Form I-418 submissions corresponded to commercial vessel operators who fully participated in the test program, while the remainder corresponded to those who only partially participated (see Table 1 and Table 2).²³ Table 1 and Table 2 together summarize the historical U.S. arrival and departure statistics for commercial vessels according to I-418 Automation test program participation. CBP assumes that each of the arrivals shown in Table 1 and Table 2 coincided with a Form I-418 submission and vessel departure.

²¹ The I-418 Automation test program was available to commercial vessels, including cruise ships, on a port-by-port basis. Data on cruise ship participation in the I-418 Automation test program at all POEs nationwide is not readily available; however, test program participation information at many large POEs is available. Given such data limitations, CBP estimated that the historical percentage of cruise ship arrivals/departures not participating in the I-418 Automation test program is equal to the share of FY 2015 to FY 2019 cruise ship arrivals/departures occurring at U.S. sea POEs known not to offer the program. Accordingly, CBP estimates that 44 percent of cruise ship arrivals/departures from FY 2011 to FY 2021 correspond to cruise ships not participating in the I-418 Automation test program, while the remaining 56 percent of cruise ship arrivals/departures correspond to cruise ships participating in the I-418 Automation test program. Information regarding POEs offering I-418 Automation test program to cruise ships provided by CBP Office of Field Operations subject matter experts on November 13, 2020; and November 16, 2020; and data from internal databases gathered on November 17, 2020.

²² Although the I-418 Automation test program allowed participating commercial vessel operators to transmit required I-418 data through existing eNOA/D and APIS data submissions rather than by the paper Form I-418, certain test participants insisted on submitting paper Form I-418s to ensure full compliance with DHS and CBP regulations. Information provided by CBP Office of Field Operations subject matter experts on February 23, 2016.

²³ Information provided by CBP Office of Field Operations subject matter experts on February 23, 2016; November 13, 2020; and November 6, 2020.

Table 1—Historical Cruise Ship Arrivals and Departures
Fiscal year | Non-former I-418 automation test program participants: Vessel arrivals/ departures | Former I-418 automation test program participants: Vessels fully participating in test | Former I-418 automation test program participants: Vessels partially participating in test | Former I-418 automation test program participants: Test program participant total | Regulatory program: Vessel arrivals/ departures | All cruise ships: Vessel arrivals/ departures
2011 | 3,656 | 2,327 | 2,327 | 4,654 |  | 8,310
2012 | 3,651 | 2,323 | 2,323 | 4,646 |  | 8,297
2013 | 3,706 | 2,359 | 2,359 | 4,718 |  | 8,424
2014 | 3,930 | 2,501 | 2,501 | 5,002 |  | 8,932
2015 | 3,957 | 2,519 | 2,519 | 5,038 |  | 8,995
2016 | 3,857 | 2,455 | 2,455 | 4,910 |  | 8,767
2017 | 3,985 | 2,536 | 2,536 | 5,072 |  | 9,057
2018 | 4,088 | 2,602 | 2,602 | 5,204 |  | 9,292
2019 | 4,385 | 2,791 | 2,791 | 5,582 |  | 9,967
2020 | 1,991 | 1,267 | 1,267 | 2,534 |  | 4,525
2021 | 1,018 | 648 | 648 | 1,296 |  | 2,314
2022 ¹ |  |  |  |  | 10,884 | 10,884
2023 |  |  |  |  | 12,438 | 12,438
2024 |  |  |  |  | 13,402 | 13,402
Total, 2011-2021 | 38,224 | 24,328 | 24,328 | 48,656 | 0 | 86,880
Total, 2022-2024 | 0 | 0 | 0 | 0 | 36,724 | 36,724
¹ The I-418 Automation test program was ended by the IFR, which became effective on February 28, 2022. As the rule was in effect for more than half of FY 2022, this analysis considers FY 2022 as being part of the rule and not part of the I-418 Automation test program period.
² CBP assumes that one I-418 was submitted per vessel arrival. Form I-418s submitted in both electronic and paper format are only counted as one form submission.
³ Estimates may not sum due to rounding.
⁴ Source: Data pulled from ACE Reports on October 28, 2024, and estimates for full and partial test participation rates provided by CBP Office of Field Operations subject matter experts on February 23, 2016; November 6, 2020; and November 13, 2020.

Table 2—Historical Cargo and Non-Cargo Vessel Arrivals and Departures
Fiscal year | Non-former I-418 automation test program participants: Vessel arrivals/ departures | Former I-418 automation test program participants: Vessels fully participating in test | Former I-418 automation test program participants: Vessels partially participating in test | Former I-418 automation test program participants: Test program participant total | Regulatory program: Vessel arrivals/ departures | All cargo and non-cargo vessels: Vessel arrivals/ departures
2011 | 80,426 | 570 | 570 | 1,140 |  | 81,566
2012 | 67,443 | 5,683 | 5,682 | 11,365 |  | 78,808
2013 | 65,152 | 5,721 | 5,721 | 11,442 |  | 76,594
2014 | 66,607 | 5,247 | 5,246 | 10,493 |  | 77,100
2015 | 69,034 | 4,555 | 4,554 | 9,109 |  | 78,143
2016 | 63,909 | 5,756 | 5,755 | 11,511 |  | 75,420
2017 | 62,611 | 5,674 | 5,674 | 11,348 |  | 73,959
2018 | 65,866 | 5,792 | 5,791 | 11,583 |  | 77,449
2019 | 63,893 | 5,744 | 5,743 | 11,487 |  | 75,380
2020 | 59,654 | 5,631 | 5,631 | 11,262 |  | 70,916
2021 | 61,344 | 4,993 | 4,993 | 9,986 |  | 71,330
2022 ¹ |  |  |  |  | 70,183 | 70,183
2023 |  |  |  |  | 70,109 | 70,109
2024 |  |  |  |  | 71,009 | 71,009
Total, 2011-2021 | 725,939 | 55,366 | 55,360 | 110,726 | 0 | 836,665
Total, 2022-2024 | 0 | 0 | 0 | 0 | 211,471 | 211,471
¹ The I-418 Automation test program was ended by the IFR, which became effective on February 28, 2022. As the rule was in effect for more than half of FY 2022, this analysis considers FY 2022 as being part of the rule and not part of the I-418 Automation test program period.
² CBP assumes that one I-418 was submitted per vessel arrival. Form I-418s submitted in both electronic and paper format are only counted as one form submission.
³ Estimates may not sum due to rounding.
⁴ Source: Data pulled from ACE Reports on October 28, 2024. Estimates for full and partial test participation rates from CBP Office of Field Operations subject matter experts on February 23, 2016; November 6, 2020; November 13, 2020, and February 17, 2023.

From FY 2015 to FY 2019, cargo and non-cargo vessel arrivals/departures of I-418 Automation test program participants grew at a compound annual rate of 6.0 percent while non-participant cargo and non-cargo vessel arrivals/departures declined at a compound annual rate of 1.9 percent (see Table 2). During the same period, participant and non-participant cruise ship arrivals/departures both grew at a compound annual rate of 2.6 percent (see Table 1). In the future, CBP projects that commercial vessel arrivals/departures will remain consistent with their more conservative historical trends prior to the COVID-19 pandemic beginning in 2020 and ending in 2023. Accordingly, CBP estimates that future cargo and non-cargo vessel arrivals/departures of I-418 Automation test program participants will increase at a rate of 6.0 percent per year, non-participant cargo and non-cargo vessel arrivals/departures will decrease at a rate of 1.9 percent per year, and all cruise ship arrivals/departures will increase at a rate of 2.6 percent per year from their FY 2019 values for FY 2025 and FY 2026.²⁴ CBP believes that these projections best represent the normal, recent growth of commercial vessel arrivals/departures while still accounting for the economic and travel slowdowns due to the COVID-19 pandemic and subsequent recovery. CBP did not use data from FY 2020 to FY 2024 as a basis for future growth because these years exhibit abnormal growth rates (both positive and negative) in vessel arrivals/departures due to the COVID-19 pandemic and subsequent recovery. However, CBP recognizes the uncertainty in this assumption and that the rate of economic recovery from the COVID-19 pandemic depends on many factors, including how quickly businesses can recover, rates of infection, and global supply chains. CBP does not believe that this rulemaking directly affects the volume of commercial vessel arrivals/departures, and thus predicts that the projected arrivals/departures will be the same with and without the implementation of this rulemaking (i.e., the pre-test program baseline).

²⁴ Based on historical commercial vessel data and future commercial vessel demand outlooks. For future looking cargo and non-cargo vessel outlook information at the time of the IFR, see United Nations Conf. on Trade & Dev. (UNCTAD), COVID-19 and Maritime Transport Impact and Responses, Transp. & Trade Facilitation, Series No. 15 (2021), https://unctad.org/system/files/official-document/dtltlb2021d1_en.pdf; World Bank, Global Economic Prospects, June 2021, ch. 1, https://openknowledge.worldbank.org/bitstream/handle/10986/35647/9781464816659-ch01.pdf; Moody's Investors Service, Outlook for US public ports revised to stable on strengthening economic activity, improving cargo volumes” (2020), http://www.moodys.com/researchdocumentcontentpage.aspx?docid=PBC_1247050; Friedemann Ohse. “Will 2021 bring about recovery for the global maritime industry?” OceanInsights, September 30, 2020. Available at https://www.ocean-insights.com/business-news/will-2021-bring-about-recovery-for-the-global-maritime-industry/?cli_action=1602257398.7141/8. For future looking cruise ship outlook information at the time of the IFR, see Monique Giese, COVID-19 Impacts on Cruise Industry, KPMG (July 23, 2020), https://home.kpmg/xx/en/blogs/home/posts/2020/07/covid-19-impacts-on-global-cruise-industry.html. (last accessed Oct. 23, 2020); Shannon McMahon, 5 takeaways from the cruise industry's report on a return to sailing, Wash. Post (Sept. 21, 2020), https://www.washingtonpost.com/travel/2020/09/21/cruise-return-report-covid-19/.

To estimate future commercial vessel arrivals/departures with and without this rulemaking, CBP first applies the projected growth rates for cargo and non-cargo vessel arrivals/departures of I-418 Automation test program participants and non-participants (6.0 percent and −1.9 percent, respectively) and cruise ship arrivals/departures (2.6 percent for both participants and non-participants) to their respective FY 2019 values (see Table 1 and Table 2). CBP then projects the estimates forward for FY 2025 and FY 2026 while relying on historical data for FYs 2022 through 2024. When making such projections, CBP presumes that the I-418 Automation test program would have continued to exist during the period of analysis in the absence of any rulemaking to automate the Form I-418 process. In contrast, the test program transitioned into a regulatory program in which all commercial vessel operators participate in an automated I-418 process upon implementation of the IFR.

As previously stated, CBP does not believe this rulemaking directly affects the volume of commercial vessel arrivals/departures, and thus predicts that future commercial vessel arrivals/departures will be the same with and without this rule's implementation (i.e., the baseline). As Table 3 and Table 4 show, CBP estimates that almost 416,000 commercial vessel arrivals/departures will occur between FY 2022 and FY 2026, including 352,000 cargo and non-cargo vessel arrivals/departures and 65,000 cruise ship arrivals/departures. Nearly 87,000 (21 percent) of these arrivals/departures correspond to former (or ongoing in the absence of this rule) I-418 Automation test program participants, while the remaining 329,000 (79 percent) would have corresponded to non-former I-418 Automation test program participants (or non-test participants in the absence of this rule). Of the arrivals/departures of former (or ongoing) I-418 Automation test program participants, CBP estimates that 50 percent would have corresponded to participants who fully participated in the test program and the remainder would have corresponded to participants who only partially participated (see Table 3 and Table 4). Under the baseline, non-I-418 Automation test program participants and approximately 50 percent of test program participants would have continued to submit paper Form I-418s with each projected arrival/departure, while the remaining test participants would have submitted only automated versions of Form I-418 with each future arrival/departure. Alternatively, with the rule, each arrival/departure results in an automated Form I-418 submission.

Table 3—Projected Cruise Ship I-418 Test Participation
Fiscal year | Non-former I-418 automation test program participants: Growth in vessel arrivals/ departures (%) | Non-former I-418 automation test program participants: Vessel arrivals/ departures | Former I-418 automation test program participants: Growth in vessel arrivals/ departures (%) | Former I-418 automation test program participants: Vessel arrivals/ departures of participants fully participating in test | Former I-418 automation test program participants: Vessel arrivals/ departures of participants partially participating in test | Former I-418 automation test program participants: Total vessel arrivals/ departures | All cruise ships: Vessel arrivals/ departures
2022 ¹ |  | 4,789 |  | 3,048 | 3,047 | 6,095 | 10,884
2023 ¹ |  | 5,473 |  | 3,483 | 3,482 | 6,965 | 12,438
2024 ¹ |  | 5,897 |  | 3,753 | 3,752 | 7,505 | 13,402
2025 | 2.6 | 6,050 | 2.6 | 3,850 | 3,850 | 7,700 | 13,750
2026 | 2.6 | 6,207 | 2.6 | 3,950 | 3,950 | 7,900 | 14,107
Total, 2022-2026 |  | 28,416 |  | 18,084 | 18,081 | 36,165 | 64,581
¹ Historical total arrivals/departures assuming unchanged average test participation rate from '15-'21. Projections used for '22-'24 due to a lack of data in those years.
² Estimates may not sum to total due to rounding.

Table 4—Projected Cargo and Non-Cargo Vessel I-418 Test Participation
Fiscal year | Non-former I-418 automation test program participants: Growth in vessel arrivals/ departures (%) | Non-former I-418 automation test program participants: Vessel arrivals/ departures | Former I-418 automation test program participants: Growth in vessel arrivals/ departures (%) | Former I-418 automation test program participants: Vessel arrivals/ departures of participants fully participating in test | Former I-418 automation test program participants: Vessel arrivals/ departures of participants partially participating in test | Former I-418 automation test program participants: Total vessel arrivals/ departures | All cargo and non-cargo vessels: Vessel arrivals/ departures
2022 ¹ |  | 60,357 |  | 4,913 | 4,913 | 9,826 | 70,183
2023 ¹ |  | 60,440 |  | 4,920 | 4,919 | 9,839 | 70,279
2024 ¹ |  | 61,068 |  | 4,971 | 4,970 | 9,941 | 71,009
2025 | −1.9% | 59,907 | 6.0 | 5,269 | 5,269 | 10,538 | 70,445
2026 | −1.9% | 58,769 | 6.0 | 5,585 | 5,585 | 11,170 | 69,939
Total, 2022-2026 |  | 300,541 |  | 25,658 | 25,656 | 51,314 | 351,855
¹ Historical total arrivals/departures assuming unchanged average test participation rate from '15-'21.
² Estimates may not sum to total due to rounding.

3. Costs of I-418 Automation Test Program

In FY 2011, CBP implemented the I-418 Automation test program designed to streamline the commercial vessel arrival and departure processes. Since its implementation, the test program has introduced costs and benefits (cost savings) to commercial vessel operators and CBP. The outcomes in the analysis of the I-418 Automation test program are relative to a baseline where I-418 automation did not exist, and the test continued in the absence of the I-418 Automation regulatory program. The period of analysis spans from FY 2011 to FY 2026 to include consideration of the test program's continuation in the absence of the I-418 Automation IFR. The effects of the I-418 Automation test program can be combined with those of the I-418 Automation regulatory program for a full analysis of CBP's I-418 automation efforts. CBP provides a combined analysis in a later section.

Commercial vessel operators and CBP experienced costs from the I-418 Automation test program related to an added time burden for processing of vessels.²⁵ Additionally, CBP experienced costs related to the purchase and maintenance of mobile devices used in processing vessels electronically and printing costs.²⁶ Together, the cost of the I-418 Automation program totals 2.2 million in present value and 116,000 when annualized (using a 7 percent discount rate; see Table 5).

²⁵ CBP recorded some vessel arrival and departure inspection results both on paper and electronically when using mobile devices. This resulted in an average of an additional 2 minutes for CBPOs to complete some vessels' processing.

²⁶ By requiring CBP to print out the then-required paper Form I-418 or signature pages generally for all participant arrivals, the test program essentially shifted this burden from commercial vessel operators to CBP.

Table 5—Total Costs of I-418 Automation Test Program, FY 2011-FY 2026
[2024 U.S. dollars]
Fiscal year | Total cost of test program
2011 | $636
2012 | 2,169
2013 | 2,188
2014 | 2,074
2015 | 161,496
2016 | 974,970
2017 | 70,799
2018 | 73,624
2019 | 72,001
2020 | 68,105
2021 | 68,125
2022 | 67,662
2023 | 67,830
2024 | 68,478
2025 | 68,141
2026 | 67,853
Total: Undiscounted | 1,836,153
Total: Present Value, Discounted at 3 percent | 2,205,411
Total: Annualized Value, Discounted at 3 percent | 116,076
Total: Present Value, Discounted at 7 percent | 2,826,551
Total: Annualized Value, Discounted at 7 percent | 116,040
¹ All data is from the I-418 Automation test program years of operation.
² Estimates may not sum to total due to rounding.
³ The estimates in this table are contingent upon the discount rates applied.

4. Benefits of I-418 Automation Test Program

As previously mentioned, in place of submitting required I-418 information on the paper Form I-418 upon arrival and departure, the I-418 Automation test program allowed participating commercial vessel operators to transmit the I-418 data through existing eNOA/D and APIS data submissions. This automated, electronic submission process offered time and resource savings to commercial vessel operators who fully participated in the test program and submitted the data elements required on Form I-418 to CBP through electronic means only, which was only a portion of participants.

Commercial vessel operators who fully participated in the I-418 Automation test program saved 60 minutes (1 hour) per arrival/departure from not submitting paper Form I-418.²⁷ Additionally, commercial vessel operators who fully participated in the I-418 Automation test program experienced printing cost savings from largely paperless passenger and crew list processing. Instead of requiring cargo and non-cargo vessel operators to submit two paper copies of their Form I-418 upon arrival/departure, a CBP officer processed the arrivals/departures of these participants using a copy of the generated form that the officer printed. After processing, the CBP officer asked the commercial vessel operator to make a copy of the signed, stamped, and annotated paper Form I-418 for use during further coastwise travel or departure. Commercial vessel operators and CBP typically incurred a negligible time cost from this request for a copy of the Form I-418.²⁸ CBP officers at participating POEs generally processed the vessel arrivals/departures of cruise ship operators who fully participated in the I-418 Automation test program using the electronic Form I-418 data in the appropriate CBP systems and the two signature pages of the form that they printed.

²⁷ CBP, Supporting Statement for Paperwork Reduction Act Submission OMB Number 1651-0103: Passenger List, Crew List (Form I-418) (2020), https://www.reginfo.gov/public/do/PRAViewDocument?ref_nbr=202004-1651-001.

²⁸ Information provided by CBP Office of Field Operations subject matter experts on May 15, 2024.

Under this process, cargo and non-cargo commercial vessel operators fully participating in the test program were able to forgo submitting an average of three pages constituting one copy of their Form I-418 per arrival/departure.²⁹ With typically lengthier paper Form I-418 submissions, the I-418 Automation test program allowed participating cruise ship operators to forgo submitting an average of 600 pages constituting their Form I-418 package and copies per arrival/departure.³⁰

²⁹ Average 3-page length of Form I-418 submitted by cargo or non-cargo commercial vessel operator × 1 Form I-418 copy no longer submitted to CBP = 3 Form I-418 pages no longer submitted per cargo and non-cargo vessel arrival/departure. As previously mentioned, an unknown number of cargo and non-cargo vessels arriving/departing at some POEs may have provided additional copies of the Form I-418 to CBP during each arrival/departure, meaning that their number of Form I-418 pages forgone would be more than three. Information provided by CBP Office of Field Operations subject matter experts on December 16, 2016 and November 18, 2020.

³⁰ Average 300-page length of Form I-418 submitted by cruise ship operator × 2 Form I-418 copies no longer submitted to CBP = 600 Form I-418 pages no longer submitted per cruise ship arrival/departure. As previously mentioned, an unknown number of cruise ships arriving/departing at some POEs may have provided additional copies of the Form I-418 to CBP during each arrival/departure, meaning that their number of Form I-418 pages forgone would be more than 600. Some cruise ship operators may have provided just two copies of the two signature pages of the Form I-418 and/or a manifest CD, though the number of these submissions is unknown. Information provided by CBP Office of Field Operations subject matter experts on November 12, 2020, and November 18, 2020.

CBP experienced time savings from processing cargo and non-cargo vessel arrivals with mobile devices. As previously mentioned, CBP began using mobile devices in FY 2015 to process some cargo and non-cargo vessel arrivals/departures remotely. During arrival/departure processing with mobile devices, CBP officers directly recorded the inspection results and related actions into the appropriate CBP systems at the time of the vessel, crew, and passenger inspections and processing. CBP officers also continued to record cargo and non-cargo vessel arrival/departure inspection results on paper to meet the regulatory guidelines in place regarding the submission and retention of paper Form I-418s. By recording the inspection results in real time electronically with mobile devices, CBP officers did not need to perform such manual data input later at the port office during post-inspection processing.

The total cost savings of the I-418 Automation test program would equal 16.7 million in present value and 685,000 on an annualized basis from FY 2011 to FY 2026 (using a 7 percent discount rate; see Table 6). To the extent that commercial vessel operators and CBP experienced other savings from the I-418 Automation test program not captured, the benefits of the test program would differ.

Table 6—Total Benefit (Cost Savings) of I-418 Automation Test Program, FY 2011-FY 2026
[2024 U.S. dollars]
Fiscal year | Total benefit of test program
2011 | $243,339
2012 | 549,862
2013 | 555,378
2014 | 539,690
2015 | 596,784
2016 | 847,008
2017 | 843,928
2018 | 869,928
2019 | 876,335
2020 | 715,955
2021 | 623,597
2022 | 830,187
2023 | 870,073
2024 | 900,106
2025 | 924,623
2026 | 950,690
Total: Undiscounted | 11,737,482
Total: Present Value, Discounted at 3 percent | 13,537,672
Total: Annualized Value, Discounted at 3 percent | 712,517
Total: Present Value, Discounted at 7 percent | 16,676,191
Total: Annualized Value, Discounted at 7 percent | 684,615
¹ All data are from I-418 Automation test program years of operation.
² Estimates may not sum to total due to rounding.
³ The estimates in this table are contingent upon the discount rates applied.

5. Net Benefit of I-418 Automation Test Program

Table 7 summarizes the discounted, monetized costs and benefits (cost savings) of the I-418 Automation test program. As shown, the total present value net benefit (net cost saving) of the test is $13.8 million, while its annualized net benefit (net cost saving) totals $569,000 from FY 2011 to FY 2026 (using a 7 percent discount rate).

Table 7—Net Benefit (Cost Saving) of I-418 Automation Test Program, FY 2011-FY 2026
[2024 U.S. dollars]
| 3% Discount rate: Present values | 3% Discount rate: Annualized values | 7% Discount rate: Present values | 7% Discount rate: Annualized values
Total Cost | $2,205,411 | $116,076 | $2,826,551 | $116,040
Total Benefit | 13,537,672 | 712,517 | 16,676,191 | 684,615
Total Net Benefit | 11,332,261 | 596,441 | 13,849,640 | 568,575
¹ Estimates may not sum to total due to rounding.
² The estimates in this table are contingent upon CBP's vessel arrival/departure projections as well as the discount rates applied.

6. Costs of I-418 Automation Rulemaking

This rulemaking automated the Form I-418 process for all commercial vessel operators and eliminated the regulatory guidelines in place regarding the retention of paper Form I-418s. These changes did not introduce costs to commercial vessel operators. If commercial vessel operators request a copy of their annotated electronic Form I-418, which they received by paper after CBP processing, they will incur negligible costs to do so.³¹ Based on experience with the I-418 Automation test and regulatory programs, CBP believes only a minimal number of commercial vessel operators will request such copies over the period of analysis because they already have access to the information on the form.³²

³¹ Information provided by CBP Office of Field Operations subject matter experts on November 24, 2020.

³² Information provided by CBP Office of Field Operations subject matter experts on May 16, 2024.

7. Benefits (Cost Savings) of I-418 Automation Rulemaking

The I-418 Automation regulatory program provided benefits (cost savings) in the form of time to commercial vessel operators not participating and partially participating in the I-418 Automation test program. Commercial vessel operators fully participating in the I-418 Automation test program did not experience added benefits as a result of this rulemaking but continue to experience the benefits they experienced during the test program. Their experience is fully accounted for in the analysis of the test program so are not included in the analysis of the effects of the rule.

As a result of this rulemaking, vessel operators enjoy cost savings from forgone paper Form I-418 submissions, form printing, and duplicate processing. These cost savings will total $24.5 million in present value from FY 2022 to FY 2026 (using a 7 percent discount rate). During the same period, CBP will experience an overall present value cost saving of $59.4 million from the rule's avoided printing, streamlined mobile and post-inspection processing, and electronic recordkeeping (using a 7 percent discount rate). CBP may dedicate some of these savings to other agency mission areas, such as improving border security or facilitating trade. Altogether, the total cost saving of this rulemaking over the period of analysis will measure $84.0 million in present value and $16.7 million when annualized, as Table 8 shows (using a 7 percent discount rate). To the extent that commercial vessel operators and CBP enjoy other savings from the I-418 Automation regulatory program not captured, the benefits of this rulemaking would differ.

Table 8—Total Benefit (Cost Saving) of I-418 Automation Regulatory Program FY 2022-FY 2026
[2024 U.S. dollars]
Fiscal year | Total benefit of regulatory program
2022 | $16,530,040
2023 | 16,703,200
2024 | 16,958,165
2025 | 16,788,695
2026 | 16,629,536
Total: Undiscounted | 83,609,636
Total: Present Value, Discounted at 3 percent | 83,673,816
Total: Annualized Value, Discounted at 3 percent | 16,720,151
Total: Present Value, Discounted at 7 percent | 83,971,081
Total: Annualized Value, Discounted at 7 percent | 16,717,589
¹ Estimates may not sum to total due to rounding.
² The estimates in this table are contingent upon CBP's vessel arrival/departure projections as well as the discount rates applied.

8. Net Impact of I-418 Automation Regulatory Rulemaking

Table 9 outlines the monetized costs and benefits (cost savings) of the I-418 Automation regulatory program from FY 2022 to FY 2026. As illustrated, the benefits (cost savings) of this rulemaking outweigh its costs, with the total monetized net benefit (net cost saving) of the regulatory program measuring $84.0 million in present value and $16.7 million on an annualized basis (using a 7 percent discount rate).

Table 9—Net Benefit (Cost Saving) of I-418 Automation Regulatory Program, FY 2022-FY 2026
[2024 U.S. dollars]
| 3% Discount rate: Present values | 3% Discount rate: Annualized values | 7% Discount rate: Present values | 7% Discount rate: Annualized values
Total Cost | $0 | $0 | $0 | $0
Total Benefit | 83,673,816 | 16,720,151 | 83,971,081 | 16,717,589
Total Net Benefit | 83,673,816 | 16,720,151 | 83,971,081 | 16,717,589
Notes: The estimates in this table are contingent upon CBP's vessel arrival/departure projections as well as the discount rates applied.
Estimates may not sum to total due to rounding.

9. Combined Net Benefits of I-418 Automation Test and Regulatory Programs

In FY 2011, CBP implemented the I-418 Automation test program designed to streamline the commercial vessel arrival and departure processes. Since its implementation, the test program has introduced costs and benefits (cost savings) to commercial vessel operators and CBP. Based on the success of the I-418 Automation test program, CBP formalized the test program by establishing the I-418 Automation regulatory program through the Automation of CBP Form I-418 for Vessels Interim Final Rule, which is made final by this Final Rule. Like the test program, the I-418 Automation regulatory program affects both commercial vessel operators and CBP.

To give the public a full understanding of the impacts of the I-418 Automation test and regulatory program, CBP provides the following analysis which combines the effects of the I-418 Automation test and regulatory programs. The outcomes in this analysis are relative to a baseline scenario absent the I-418 Automation test and regulatory programs. This analysis relies upon the information earlier in the report and does not go into detail with the individual effects. The period of analysis is from FY 2011 to FY 2026.

The combined net benefits from FY 2011 to FY 2026 of the I-418 Automation test and regulatory programs to commercial vessel operators and CBP are $97.8 million in present value and $4.0 million annually (using a 7 percent discount rate) and are shown in Table 10.

Table 10—Combined Net Benefit of I-418 Automation Test and Regulatory Programs
[2024 U.S. dollars]
| 3% Discount rate: Present values | 3% Discount rate: Annualized values | 7% Discount rate: Present values | 7% Discount rate: Annualized values
Total Cost | $2,205,411 | $116,076 | $2,826,551 | $116,040
Total Benefit | 97,211,489 | 5,116,450 | 100,647,273 | 4,131,915
Total Net Benefit | 95,006,078 | 5,000,374 | 97,820,722 | 4,015,875
¹ Estimates may not sum to total due to rounding.
² The estimates in this table are contingent upon CBP's vessel arrival/departure projections as well as the discount rates applied.

10. Summary

In accordance with the Office of Management and Budget's Circular A-4 requirements, Accounting Statement 1 outlines the annualized costs and benefits (including cost savings) of this rulemaking while Accounting Statement 2 outlines the combined annualized costs and benefits (including cost savings) of the regulatory program and test program. CBP estimates that the projected monetized impacts of this rulemaking on commercial vessel operators, which represent both U.S. and foreign entities, is $4.9 million in annualized, monetized cost savings (using a 7 percent discount rate). CBP will experience $11.8 million in annualized, monetized cost savings from this rulemaking between FY 2022 and FY 2026 (using a 7 percent discount rate). In total, the annualized, monetized cost saving will equal $16.7 million.

Accounting Statement 1—Classification of Expenditures of the I-418 Automation Regulatory Program, FY 2022-FY 2026
[2024 U.S. dollars]
| 3% Discount rate | 7% Discount rate
Total Cost:
Annualized, Monetized | $0 | $0
Annualized, Non-Monetized, but Quantified |  |
Non-Monetized, Non-Quantified |  |
Total Benefit:
Annualized, Monetized | 16,720,151 | 16,717,589
Annualized, Non-Monetized, but Quantified |  |
Non-Monetized, Non-Quantified |  |
Note: The cost and benefit estimates in this table are contingent upon CBP expectations of future vessel arrivals and the discount rates applied for monetized values.

For informational purposes, CBP presents Accounting Statement 2 below which summarizes the combined impact of the I-418 Automation test and regulatory program on commercial vessel operators, which represent both U.S. and foreign entities, and CBP. Commercial vessel operators and CBP will experience $4.1 million in annualized, monetized cost savings between FY 2022 and FY 2026 (using a 7 percent discount rate). The I-418 Automation test and regulatory programs will also generate $116,000 in annualized, monetized costs (using a 7 percent discount rate).

Accounting Statement 2—Classification of Expenditures of the I-418 Automation Test and Regulatory Programs, FY 2011-FY 2026
[2024 U.S. dollars]
| 3% Discount rate | 7% Discount rate
Total Cost:
Annualized, Monetized | $116,076 | $116,040
Annualized, Non-Monetized, but Quantified |  |
Non-Monetized, Non-Quantified |  |
Total Benefit:
Annualized, Monetized | 5,116,450 | 4,131,915
Annualized, Non-Monetized, but Quantified |  |
Non-Monetized, Non-Quantified |  |
Note: The cost and benefit estimates in this table are contingent upon CBP expectations of future vessel arrivals and the discount rates applied for monetized values.

In summary, the findings in this analysis demonstrate that the Automation of CBP Form I-418 for Vessels Rulemaking provides an overall net benefit (cost saving) to commercial vessel operators and CBP.

B. Regulatory Flexibility Act

The Regulatory Flexibility Act (5 U.S.C. 601 et seq.), as amended by the Small Business Regulatory Enforcement Fairness Act of 1996, requires an agency to prepare and make available to the public a regulatory flexibility analysis that describes the effect of a proposed rule on small entities (i.e., small businesses, small organizations, and small governmental jurisdictions) when the agency is required to publish a general notice of proposed rulemaking for a rule. Since a general notice of proposed rulemaking was not necessary for this rule, CBP is not required to prepare a regulatory flexibility analysis for this rule.

C. Unfunded Mandates Reform Act of 1995

This rule will not result in the expenditure by State, local, and tribal governments, in the aggregate, or by the private sector, of $100 million or more in any one year, and it will not significantly or uniquely affect small governments. Therefore, no actions were deemed necessary under the provisions of the Unfunded Mandates Reform Act of 1995.

D. Executive Order 13132

This rule will not have substantial direct effects on the States, on the relationship between the National Government and the States, or on the distribution of power and responsibilities among the various levels of government. Therefore, in accordance with section 6 of Executive Order 13132, DHS has determined that this final rule does not have sufficient federalism implications to warrant the preparation of a federalism summary impact statement.

E. Paperwork Reduction Act

In accordance with the Paperwork Reduction Act of 1995 (44 U.S.C. 3507), an agency may not conduct, and a person is not required to respond to, a collection of information unless the collection of information displays a valid control number assigned by OMB. The Form I-418 information collected under 8 CFR 251.1 and 251.3 was included under OMB control number 1651-0103. As a result of the Automation of CBP Form I-418 for Vessels rulemaking, CBP systems automatically reconcile eNOA/D, APIS, and any other manifest data submitted electronically by commercial vessel operators prior to arrival and at departure to create an electronic version of Form I-418. CBP uses the automated, electronic Form I-418 for all commercial vessel crew and passenger admissibility inspections and processing, and thus generally establishes a completely paperless Form I-418 process for all commercial vessel arrivals and departures. CBP retains the paper Form I-418 and conducts paper Form I-418 processing only when the master or agent of the vessel is unable to electronically submit the data elements required on Form I-418 via an EDI approved by CBP due to technical issues, such as when the onboard computer system is malfunctioning or there is no internet access, and there is no shore-side support available; CBP is experiencing technical difficulties affecting its receipt or processing of electronically submitted information; or where CBP, in its discretion, determines that a paper Form I-418 is acceptable under the circumstances presented by the master or agent of a vessel. CBP conducts such processing to not hinder, stop, or otherwise penalize maritime traffic. CBP has discontinued the information collection covered by OMB control number 1651-0103 because this information collection was duplicative.

F. Privacy Interests

DHS will ensure that all Privacy Act requirements and policies are adhered to in the implementation of this rule and will issue or update any necessary Privacy Impact Assessment and/or Privacy Act System of Records notice to fully outline processes that will ensure compliance with Privacy Act protections.

List of Subjects

8 CFR Part 251

Air carriers, Airmen, Aliens, Maritime carriers, Reporting and recordkeeping requirements, Seamen.

8 CFR Part 258

Aliens, Longshore and harbor workers, Reporting and recordkeeping requirements, Seamen.

19 CFR Part 4

Exports, Freight, Harbors, Maritime carriers, Oil pollution, Reporting and recordkeeping requirements, Vessels.

TITLE 8—ALIENS AND NATIONALITY

PART 251—ARRIVAL AND DEPARTURE MANIFESTS AND LISTS: SUPPORTING DOCUMENTS

PART 258—LIMITATIONS ON PERFORMANCE OF LONGSHORE WORK BY ALIEN CREWMEN

TITLE 19—CUSTOMS DUTIES

PART 4—VESSELS IN FOREIGN AND DOMESTIC TRADES

Accordingly, the interim final rule amending 8 CFR parts 251 and 258, and 19 CFR part 4, which was published at 86 FR 73618 on December 28, 2021, is adopted as final without change.

Kristi Noem,
Secretary of Homeland Security.

[FR Doc. 2025-19983 Filed 11-14-25; 8:45 am]

BILLING CODE 9111-14-P